NATIONAL ARCHIVES AND RECORDS ADMINISTRATION

[NARA-2015-012]

Records Schedules; Availability and Request for Comments

AGENCY: National Archives and Records Administration (NARA).

ACTION: Notice of availability of proposed records schedules; request for comments.

SUMMARY: The National Archives and Records Administration (NARA) publishes notice at least once monthly of certain Federal agency requests for records disposition authority (records schedules). Once approved by NARA, records schedules provide mandatory instructions on what happens to records when no longer needed for current Government business. They authorize the preservation of records of continuing value in the National Archives of the United States and the destruction, after a specified period, of records lacking administrative, legal, research, or other value. Notice is published for records schedules in which agencies propose to destroy records not previously authorized for disposal or reduce the retention period of records already authorized for disposal. NARA invites public comments on such records schedules, as required by 44 U.S.C. 3303a(a).

DATES: Requests for copies must be received in writing on or before December 19, 2014. Once the appraisal of the records is completed, NARA will send a copy of the schedule. NARA staff usually prepare appraisal memorandums that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001

Email: request.schedule@nara.gov

FAX: 301-837-3698

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media neutral unless specified otherwise. An item in a schedule is media neutral when the disposition instructions may be applied to records regardless of the medium in which the records are created and maintained. Items included in schedules submitted to NARA on or after December 17, 2007, are media neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food and Nutrition Service (DAA-0462-2012-0002, 1 item, 1 temporary item). Master files of an electronic information system used to track institutions participating in the child nutrition program.

2. Department of the Army, Agency-wide (DAA-AU-2014-0028, 1 item, 1 temporary item). Master files of an electronic information system that contains records relating to equipment failures and corrective actions.

3. Department of the Army, Agency-wide (DAA-AU-2014-0030, 1 item, 1 temporary item). Master files of an electronic information system that contains equipment testing data used for acquisition purposes.

4. Department of the Army, Agency-wide (DAA-AU-2014-0031, 4 items, 4 temporary items). Master files of an electronic information system that contains equipment life cycle support data to include inventories, maintenance schedules, and failure review actions.

5. Department of the Army, Agency-wide (DAA-AU-2014-0032, 1 item, 1 temporary item). Master files of an electronic information system that contains ammunition tracking data.

6. Department of the Army, Agency-wide (DAA-AU-2014-0034, 1 item, 1 temporary item). Master files of an electronic information system used to track laundry items and cost reports.

7. Department of Commerce, Census Bureau (DAA-0029-2014-0004, 5 items, 2 temporary items). Records of the Survey of Income Program Participation, including unedited and edited internal data files. Proposed for permanent retention are public use microdata files, reports and working papers, and survey documentation.

8. Department of Defense, Office of the Secretary of Defense (DAA-0330-2013-0014, 13 items, 6 temporary items). Still photographs, motion pictures, and other audio and visual records lacking research or other value received by the Defense Imagery Management Operations Center. Proposed for permanent retention are audio and visual records, including finding aids, that provide significant documentation of the department, including its combat and non-combat activities.

9. Department of Defense, Defense Commissary Agency (DAA-0506-2014-0002, 2 items, 2 temporary items). Preliminary notifications of adverse incidents such as thefts or accidents at commissaries and other agency facilities.

10. Department of Defense, Defense Commissary Agency (DAA-0506-2014-0003, 11 items, 10 temporary items). Records relating to agency process improvement, initiatives, innovation, performance management, change management, and strategic planning. Proposed for permanent retention are agency strategic plans.

11. Department of Defense, Defense Logistics Agency (DAA-0361-2013-0001, 9 items, 9 temporary items). Master files of an electronic information system that contains records relating to all aspects of the supply chain for military materiel.

12. Department of Defense, National Geospatial-Intelligence Agency (DAA-0537-2014-0001, 2 items, 1 temporary item). Working case files of the Ombudsman Office. Proposed for permanent retention are program records and annual reports.

13. Department of Health and Human Services, Centers for Medicare & Medicaid Services (DAA-0440-2013-0012, 8 items, 8 temporary items). Records related to safety, occupational health, and environmental administrative procedures, including complaints, reports, and environmental impact statements.

14. Department of Homeland Security, National Protection and Programs Directorate (DAA-0563-2013-0008, 6 items, 6 temporary items). Master files and outputs of an electronic information system which performs information technology infrastructure intrusion detection, analysis, and prevention.

15. Department of Homeland Security, Transportation Security Administration (DAA-0560-2013-0005, 2 items, 2 temporary items). Master files of an electronic information system used to track employee incidents and provide assistance for personal or work-related crises.

16. Department of Homeland Security, U.S. Citizenship and Immigration Services (DAA-0566-2014-0004, 1 item, 1 temporary item). Forms used to track and update deportation cases created prior to 2002.

17. Department of Homeland Security, U.S. Citizenship and Immigration Services (DAA-0566-2015-0001, 1 item, 1 temporary item). Logs detailing the inventorying, transfer, and destruction of secure forms such as naturalization and citizenship certificates.

18. Department of Justice, Agency-wide (DAA-0060-2014-0004, 2 items, 2 temporary items). General correspondence from the public not related to specific cases or actions.

19. Department of Justice, Agency-wide (DAA-0060-2014-0005, 2 items, 2 temporary items). Departmental components' copies of responses to internal data requests and reporting requirements.

20. Department of Justice, Federal Bureau of Investigation (DAA-0065-2013-0004, 3 items, 3 temporary items). Master file of an electronic information system used to track requests and approvals for disseminating information to foreign governments, productivity reports on request processing, and information disseminated.

21. Department of Transportation, Federal Aviation Administration (DAA-0237-2014-0002, 8 items, 5 temporary items). Comprehensive schedule covering various administrative records relating to agency legal opinion, decision, and litigation activity. Proposed for permanent retention are substantive opinion, litigation, and hearing case files.

22. Department of Transportation, Federal Aviation Administration (DAA-0237-2014-0003, 9 items, 6 temporary items). Comprehensive schedule covering various administrative records relating to agency policies, regulations, and rule making. Proposed for permanent retention are substantive policy, regulation, and rule making case files.

23. Department of the Treasury, Financial Crimes Enforcement Network (N1-559-12-1, 14 items, 14 temporary items). Records of the Regulatory Policy and Programs Division, including final rules and working papers, correspondence, and regulatory analysis records.

24. Department of the Treasury, Internal Revenue Service (DAA-0058-2015-0002, 2 items, 2 temporary items). Examination program records for competency tests of tax professionals.

25. Commodity Futures Trading Commission, Agency-wide (DAA-0180-2013-0001, 1 item, 1 temporary item). Master files of an electronic information system used to collect visitor information.

26. Commodity Futures Trading Commission, Agency-wide (DAA-0180-2013-0002, 1 item, 1 temporary item). Records of the debt collection program to include case files, court judgements, and correspondence.

27. Environmental Protection Agency, Agency-wide (DAA-0412-2013-0006, 2 items, 1 temporary item). Planning and resource allocation records, including agency program plans review files, regional guidance reports and revisions, and related records. Proposed for permanent retention are historically significant records including management studies, organizational plans, program development files, program policy planning files, and annual headquarters and regional guidance plans.

28. Government Accountability Office, Agency-wide (DAA-0411-2015-0001, 4 items, 4 temporary items). Records related to the investigation of fraud including case files, referrals, and investigation tracking records.

29. Library of Congress, Agency-wide (DAA-0297-2014-0012, 16 items, 9 temporary items). Records relating to agency involvement in cultural activities and events, such as press clippings and biographies. Proposed for permanent retention are records documenting the public face of the agency including executive speech files, news releases, publications, motion pictures, still photography, and posters.

30. National Archives and Records Administration, Government-wide (DAA-GRS-2014-0004, 4 items, 4 temporary items). General Records Schedule for records of employee separation program management, individual separation case files, and capture of employee knowledge prior to departure.

31. Presidio Trust, Agency-wide (DAA-0556-2014-0003, 5 items, 2 temporary items). Records relating to resource and land management including routine project, correspondence, and administrative files. Proposed for permanent retention are final reports, significant correspondence, and policy and procedure records related to environmental remediation and cultural resource management.

32. Presidio Trust, Agency-wide (DAA-0556-2014-0004, 9 items, 5 temporary items). Records related to the rehabilitation and maintenance of buildings including project administration, operational and equipment manuals, easement records, and routine correspondence. Proposed for permanent retention are building rehabilitation project maps, architectural plans, and construction and restoration reports.

33. Presidio Trust, Agency-wide (DAA-0556-2014-0005, 6 items, 4 temporary items). Records relating to residential and commercial services including lease agreements and responses to commercial services solicitations. Proposed for permanent retention are policy and procedure records and non-residential long-term leases of 50 years or more that rendered permanent changes to the structure or landscape.

34. Presidio Trust, Agency-wide (DAA-0556-2014-0006, 10 items, 7 temporary items). Records that document planning, organizing, staffing, directing, internal/external reporting, and controlling of agency activities that occur routinely. Proposed for permanent retention are annual reports to Congress, strategic plans, and the Executive Director's orders, policy records, and email.

35. Recovery Accountability and Transparency Board, Agency-wide (DAA-0220-2014-0016, 11 items, 8 temporary items). Investigative case files, correspondence, program files, and other records relating to the review of management of Federal appropriations. Proposed for permanent retention are final reports and significant program files.

36. Securities and Exchange Commission, Agency-wide (DAA-0266-2013-0004, 7 items, 7 temporary items). Records relating to routine monitoring of companies.

37. Securities and Exchange Commission, Agency-wide (DAA-0266-2014-0009, 7 items, 7 temporary items). Master files of an electronic information system used to manage tips, complaints, and referrals of possible securities violations.

38. Securities and Exchange Commission, Office of Credit Ratings (DAA-0266-2014-0005, 13 items, 9 temporary items). Records related to examinations and monitoring of credit reporting organizations, including internal reports, memorandums, and correspondence. Proposed for permanent retention are routine reporting records from credit reporting organizations, final reports, and rulemaking records.

39. United States Institute of Peace, Agency-wide (DAA-0573-2013-0001, 6 items, 2 temporary items). Records related to facility construction, including working copies of building plans and non-significant subject files. Proposed for permanent retention are full sets of building plans, design drawings and simulations, and significant subject files.

Dated: November 12, 2014.
Paul M. Wester, Jr.,
Chief Records Officer for the U.S. Government.

[FR Doc. 2014-27391 Filed 11-18-14; 8:45 am]

BILLING CODE 7515-01-P